FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202)-523-5793 or tradeanalysis@fmc.gov.

Agreement No.: 012337-002.

Title: HSDG/Zim ECSA Space Charter Agreement.

Parties: Hamburg Sud and Zim Integrated Shipping Services, Ltd.

Filing Party: Wayne R. Rohde, Esq.; Cozen O'Conner; 1200 Nineteenth Street NW; Washington, DC 20036.

Synopsis: The amendment deletes the expiration date on the Agreement.

Agreement No.: 011574-021.

Title: Pacific Islands Discussion Agreement.

Parties: Compagnie Maritime Marfret and Polynesia Line, Ltd.

Filing Party: Wayne R. Rohde, Esq.; Cozen O'Conner; 1200 Nineteenth Street NW; Washington, DC 20036.

Synopsis: The amendment deletes Hamburg Sud as a party to the Agreement.

Agreement No.: 011830-011.

Title: Indamex Cross Space Charter, Sailing and Cooperative Working Agreement.

Parties: CMA CGM S.A.; Hapag-Lloyd AG; Nippon Yusen Kaisha; and Orient Overseas Container Line Limited.

Filing Party: Wayne R. Rohde, Esq.; Cozen O'Conner; 1200 Nineteenth Street NW; Washington, DC 20036.

Synopsis: The amendment increases the number and size of vessels to be operated under the Agreement. It also adds authority for ad hoc space chartering among the parties and restates the Agreement.

Agreement No.: 011961-024.

Title: The Maritime Credit Agreement.

Parties: COSCO Container Lines Company Limited; Maersk Line A/S; Wallenius Wilhelmsen Logistics; and ZIM Integrated Shipping Services Ltd.

Filing Party: Wayne R. Rohde, Esq.; Cozen O'Conner; 1200 Nineteenth Street NW; Washington, DC 20036.

Synopsis: The amendment deletes Kawasaki Kisen Kaisha, Ltd. as a party to the Agreement.

By Order of the Federal Maritime Commission.

Dated: December 29, 2017.
Rachel E. Dickon,
Assistant Secretary.

[FR Doc. 2017-28485 Filed 1-3-18; 8:45 am]

BILLING CODE 6731-AA-P